DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Notification of Intent To Use Schedule III, IV, or V Opioid Drugs for the Maintenance and Detoxification Treatment of Opiate Addiction Under 21 U.S.C. 823(g)(2) (OMB No. 0930-0234 and OMB No. 0930-0369)—Revision

The Drug Addiction Treatment Act of 2000 (“DATA,” Pub. L. 106-310) amended the Controlled Substances Act (21 U.S.C. 823(g)(2)) to permit qualifying practitioners to seek and obtain waivers to prescribe certain approved narcotic treatment drugs for the treatment of opiate addiction. The legislation set eligibility requirements and certification requirements as well as an interagency notification review process for practitioners who seek waivers. To implement these provisions, SAMHSA developed Notification of Intent Forms that facilitate the submission and review of notifications. The forms provide the information necessary to determine whether practitioners meets the qualifications for waivers set forth under the law at the 30-, 100-, and 275-patient limits. This includes the annual reporting requirements for practitioners with waivers for a 275 patient limit. On October 24, 2018, the Substance Use Disorder Prevention that Promotes Opioid Recovery and Treatment for Patients and Communities (SUPPORT) Act (Pub. L. 115-71) was signed into law. Sections 3201-3202 of the SUPPORT Act made several amendments to the Controlled Substances Act regarding office-based opioid treatment that affords practitioners greater flexibility in the provision of medication-assisted treatment (MAT).

The SUPPORT Act expands the definition of “qualifying other practitioner” enabling Clinical Nurse Specialists, Certified Registered Nurse Anesthetists, and Certified Nurse Midwives (CNSs, CRNAs, and CNMs) to apply for a Drug Addiction Treatment Act of 2000 (DATA) waiver until October 1, 2023. It also allows qualified practitioners (i.e., MDs, DOs, NPs, PAs, CNSs, CRNAs, and CNMs) who are board certified in addiction medicine or addiction psychiatry, -or- practitioners who provide MAT in a qualified practice setting, to start treating up to 100 patients in the first year of MAT practice (as defined in 42 CFR 8.2) with a waiver.

Further, the SUPPORT Act extends the ability to treat up to 275 patients to “qualifying other practitioners” (i.e., NPs, PAs, CNSs, CRNAs, and CNMs) if they have a waiver to treat up 100 patients for at least one year and provide medication-assisted treatment with covered medications (as such terms are defined under 42 CFR 8.2) in a qualified practice setting as described under 42 CFR 8.615. Finally, the SUPPORT Act also expands how physicians could qualify for a waiver. Under the statute now, physicians can qualify for a waiver if they have received at least 8 hours of training on treating and managing opiate-dependent patients, as listed in the statute if the physician graduated in good standing from an accredited school of allopathic medicine or osteopathic medicine in the United States during the 5-year period immediately preceding the date on which the physician submits to SAMHSA. In order to expedite the new provisions of the SUPPORT Act, SAMHSA sought and received a Public Health Emergency Paperwork Reduction Act Waiver. Practitioners may use the form for four types of notifications: (a) New Notification to treat up to 30 patients; (b) New Notification, with the intent to immediately facilitate treatment of an individual (one) patient; (c) Second notification of need and intent to treat up to 100 patients; and (d) New notification to treat up to 100 patients. Under “new” notifications, practitioners may make their initial waiver requests to SAMHSA. “Immediate” notifications inform SAMHSA and the Attorney General of a practitioner's intent to prescribe immediately to facilitate the treatment of an individual (one) patient under 21 U.S.C. 823(g)(2)(E)(ii). The form collects data on the following items: Practitioner name; state medical license number; medical specialty; and DEA registration number; address of primary practice location, telephone and fax numbers; email address; name and address of group practice; group practice employer identification number; names and DEA registration numbers of group practitioners; purpose of notification: new, immediate, or renewal; certification of qualifying criteria for treatment and management of opiate dependent patients; certification of capacity to provide directly or refer patients for appropriate counseling and other appropriate ancillary services; certification of maximum patient load, certification to use only those drug products that meet the criteria in the law. The form also notifies practitioners of Privacy Act considerations, and permits practitioners to expressly consent to disclose limited information to the SAMHSA Buprenorphine Physician and Behavioral Health Treatment Services locators. The following table summarizes the estimated annual burden for the use of this form.

42 CFR citation | Purpose of submission | Estimated number of respondents | Responses/ respondent | Burden/ response (hr.) | Total burden (hrs.)
| Notification of Intent | 1,500 | 1 | 0.083 | 125
| Notification to Prescribe Immediately | 50 | 1 | 0.083 | 4
| Notice to Treat up to 100 patients | 500 | 1 | 0.04 | 20
| Notice to Treat up to 275 patients | 800 | 1 | 1 | 65
Subtotal |  | 2,850 |  |  | 214
Burden Associated with the Final Rule That Increased the Patient Limit
8.620 (a)-(c) | Request for Patient Limit Increase * | 517 | 1 | 0.5 | 259
| Request for Patient Limit Increase * | 517 | 1 | 0.5 | 259
| Request for Patient Limit Increase * | 517 | 1 | 0.5 | 259
8.64 | Renewal Request for a Patient Limit Increase * | 260 | 1 | 0.5 | 130
| Renewal Request for a Patient Limit Increase * | 260 | 1 | 0.5 | 130
| Renewal Request for a Patient Limit Increase * | 260 | 1 | 0.5 | 130
8.655 | Request for a Temporary Patient Increase for an Emergency * | 10 | 1 | 3 | 30
| Request for a Temporary Patient Increase for an Emergency * | 10 | 1 | 3 | 30
| Request for a Temporary Patient Increase for an Emergency * | 10 | 1 | 3 | 30
Subtotal |  | 2,361 |  |  | 1,256
New Burden Associated with the Final Rule That Outlined the Reporting Requirements
8.635 | Practitioner Reporting Form * | 1,350 | 1 | 3 | 4,050
| “Qualifying Other Practitioner” under 21 U.S.C. 823(g)(2)—Nurse Practitioners | 816 | 1 | 0.066 | 54
| “Qualifying Other Practitioner” under 21 U.S.C. 823(g)(2)—Physician Assistants | 590 | 1 | 0.066 | 39
| “Qualifying Other Practitioner” under 21 U.S.C. 823(g)(2)—Certified Nurse Specialists | 590 | 1 | 0.066 | 39 |  | “Qualifying Other Practitioner” under 21 U.S.C. 823(g)(2)—Certified Nurse Mid-Wives | 590 | 1 | 0.066 | 39
| “Qualifying Other Practitioner” under 21 U.S.C. 823(g)(2)—Certified Registered Nurse Anesthetists | 590 | 1 | 0.066 | 39
Sub Total |  | 4,526 |  |  | 4,260
Total Burden |  | 6,561 |  |  | 5,519

Send comments to Summer King, SAMHSA Reports Clearance Officer, 5600 Fishers Lane, Room 15E57-B, Rockville, Maryland 20857, OR email a copy to summer.king@samhsa.hhs.gov. Written comments should be received by December 2, 2019.

Summer King,
Statistician.

[FR Doc. 2019-21388 Filed 10-1-19; 8:45 am]

BILLING CODE 4162-20-P